COMMITTEE FOR PURCHASE FROM PEOPLE WHO ARE BLIND OR SEVERELY DISABLED

Procurement List; Additions

AGENCY: Committee for Purchase From People Who Are Blind or Severely Disabled.

ACTION: Correction to additions to the Procurement List.

SUMMARY: This action corrects two (2) product additions to the Procurement List that are furnished by nonprofit agencies employing persons who are blind or have other severe disabilities.

DATES: Date added to and deleted from the Procurement List: April 28, 2019.

ADDRESSES: Committee for Purchase From People Who Are Blind or Severely Disabled, 355 E Street SW, Washington, DC 20024.

FOR FURTHER INFORMATION CONTACT: Michael R. Jurkowski, Telephone: (703) 785-6404, or email CMTEFedReg@AbilityOne.gov.

SUPPLEMENTARY INFORMATION:

Additions

On 2/8/2019 (84 FR 2823), the Committee for Purchase From People Who Are Blind or Severely Disabled published notice of its intent to add the Airborne Tactical Assault Panel (A-TAP) to the Procurement List for 50% of the U.S. Army's A-TAP requirement. In accordance with 41 CFR 51-2.4 and 51-5.3, the Committee subsequently determined 50% of the U.S. Army's A-TAP requirement was suitable for addition and published a notice of product addition on 3/29/2019 (84 FR 11935). However, the 3/29/2019 notice inadvertently omitted that only 50% of the U.S. Army's ATAP requirement was suitable for addition and the Committee's determination is corrected here.

Additionally, on 11/16/2018 (83 FR 57722), the Committee published its notice of intent to add the Airborne Rucksack, Modular Lightweight Load Carrying Equipment (MOLLE), OCP 2015, to the Procurement List for 20,000 annual units to meet a U.S. Army requirement. In accordance with 41 CFR 51-2.4 and 51-5.3, the Committee subsequently determined 20,000 annual units of production was suitable for addition and published a notice of product addition on 3/29/2019 (84 FR 11935). However, the 3/29/2019 notice inadvertently omitted that only 20,000 units annually was suitable for addition and the Committee's determination is corrected here. This notice is published pursuant to 41 U.S.C. 8503(a)(2).

Regulatory Flexibility Act Certification

I certify that the following action did not have a significant impact on a substantial number of small entities. The major factors considered for this certification were:

1. The action did not result in any additional reporting, recordkeeping or other compliance requirements for small entities other than the nonprofit agencies furnishing the products to the Government.

2. The action did result in authorizing nonprofit agencies to furnish the products to the Government.

3. There were no known regulatory alternatives which would have accomplished the objectives of the Javits-Wagner-O'Day Act (41 U.S.C. 8501-8506) in connection with the products added to the Procurement List.

End of Certification

Accordingly, the following is an update for the products listed below:

Product(s)

NSN(s)—Product Name(s): 8465-01-F05-2045—Airborne Tactical Assault Panel (A-TAP)

Designated Source of Supply: Southeastern Kentucky Rehabilitation Industries, Inc., Corbin, KY

Contracting Activity: DEPT OF THE ARMY, W6QK ACC-APG NATICK

Mandatory For: 50% of the requirement for the U.S. Army

NSN(s)—Product Name(s): 8465-00-NIB-0263—Airborne Rucksack, Modular Lightweight Load Carrying Equipment (MOLLE), OCP2015

Designated Source of Supply: Winston-Salem Industries for the Blind, Inc., Winston-Salem, NC; Peckham Vocational Industries, Inc., Lansing, MI

Contracting Activity: DEPT OF THE ARMY, W6QK ACC-APG NATICK

Mandatory for: 20,000 units annually for the requirement for the U.S. Army

Distribution: C-List

Michael R. Jurkowski,
Acting Director, Business Operations.

[FR Doc. 2023-02556 Filed 2-6-23; 8:45 am]

BILLING CODE 6353-01-P